DEPARTMENT OF DEFENSE

Department of the Army

[Docket ID USA-2013-0005]

Privacy Act of 1974; System of Records

AGENCY: Department of the Army, DoD.

ACTION: Notice to reinstate seven systems of records.

SUMMARY: The Department of the Army proposes to reinstate seven systems of records in its inventory of record systems to the Privacy Act of 1974 (5 U.S.C. 552a), as amended. After review, it has been determined that the records covered under these previously deleted notices (see 77 FR 13573-13574), March 7, 2012) were erroneously deleted; therefore these notices are being reinstated.

DATES: This proposed action will be effective on April 29, 2013 unless comments are received which result in a contrary determination. Comments will be accepted on or before April 26, 2013.

ADDRESSES: You may submit comments, identified by docket number and title, by any of the following methods:

• Federal Rulemaking Portal: http://www.regulations.gov.

Follow the instructions for submitting comments.

• Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

ADDRESSES: Send comments to Headquarters, Department of the Army, Privacy Office, U.S. Army Records Management and Declassification Agency, 7701 Telegraph Road, Casey Building, Suite 144, Alexandria, VA 22315-3827 or by phone at 703-428-6185.

FOR FURTHER INFORMATION CONTACT: Mr. Leroy Jones, Jr., Department of the Army, Privacy Office, U.S. Army Records Management and Declassification Agency, 7701 Telegraph Road, Casey Building, Suite 144, Alexandria, VA 22315-3827 or by phone at 703-428-6185.

SUPPLEMENTARY INFORMATION: The Department of the Army systems of records notices subject to the Privacy Act of 1974, (5 U.S.C. 552a), as amended, have been published in the Federal Register and are available from the address above.

The Department of the Army proposes to reinstate seven systems of records to its inventory of records systems subject to the Privacy Act of 1974 (5 U.S.C. 552a), as amended. The previous systems of records notices are being republished in its entirety, below. The reinstatement is not within the purview of subsection of the Privacy Act of 1974 (5 U.S.C. 552a), as amended, which requires the submission of a new or altered system report.

Dated: March 21, 2013.
Aaron Siegel,
Alternate OSD Federal Register Liaison Officer, Department of Defense.

A0600o AHRC

System name:

Army Career and Alumni Program (ACAP XXI).

System location:

Primary location: Headquarters, U.S. Army Human Resources Command, ATTN: AHRC-PDT-O, 200 Stovall Street, Alexandria, VA 22332-0476. Secondary locations: Army Career and Alumni Program Centers. A complete list of ACAP centers may be obtained by writing to the system manager.

Categories of individuals covered by the system:

Department of Defense military personnel (Active/reserve duty) and their spouses; U.S. Coast Guard personnel and their spouses; Department of Defense civilian employees and their spouses; U.S. Army National Guard personnel and their spouses; DoD personnel who retired no earlier than ninety (90) days prior to the date they requested ACAP services; and widows and widowers of deceased active duty military personnel.

Categories of records in the system:

Files contain individual's name, home address, Social Security Number, date of birth, job qualifications, DD Form 2648 (Pre-Separation Counseling Checklist), and similar or pre-separation/transition counseling related documents.

Authority for maintenance of the system:

5 U.S.C. 301, Departmental Regulations; 10 U.S.C. 3013, Secretary of the Army, 10 U.S.C., Chapter 58; DoD Directive 1332.35; and E.O. 9397 (SSN), as amended.

Purpose(s):

To provide transition planning/counseling for individuals so that they may re-enter the civilian job market.

Routine uses of records maintained in the system, including categories of users and the purposes of such uses:

In addition to those disclosures generally permitted under 5 U.S.C. 552a(b) of the Privacy Act of 1974, as amended, these records contained therein may specifically be disclosed outside the DoD as a routine use pursuant to 5 U.S.C. 552a(b)(3) as follows:

The DoD Blanket Routine Uses set forth at the beginning of the Army's compilation of systems of records notices may apply to this system.

Policies and practices for storing, retrieving, accessing, retaining, and disposing of records in the system:

Storage:

Information is stored electronically on computers and on paper in file folders.

Retrievability:

By name or Social Security Number.

Safeguards:

All records are maintained in secured areas, accessible only to designated personnel whose official duties require they have access. The personal computer system can only be accessed through a system of passwords known only to the individual and the system administrator/supervisor. Paper files are secured in locked file cabinets. The areas where the personal computer and paper files are located are secured after duty hours in locked buildings.

Retention and disposal:

Records are deleted after 90 days inactivity for individual personnel records.

System manager(s) and address:

Commander, U.S. Army Human Resources Command, ATTN: AHRC-PDT-O, 200 Stovall Street, Alexandria, VA 22332-0476.

Notification procedure:

Individuals seeking to determine whether information about themselves is contained in the system should address written inquiries to the Director of the ACAP Center where transition assistance was obtained or contact the system manager.

Requesting individual must submit full name and Social Security Number.

Record access procedures:

Individuals seeking access to records about themselves contained in this system should address written inquiries to the Director of the ACAP Center where transition assistance was obtained or contact the system manager. Requesting individual must submit full name and Social Security Number.

Contesting record procedures:

The Army's rules for accessing records, and for contesting contents and appealing initial agency determinations are contained in Army Regulation 340-21; 32 CFR part 505; or may be obtained from the system manager.

Record source categories:

From the individual, Army records and reports, and the U.S. Coast Guard records.

Exemptions claimed for the system:

None.

* * * * *

A0601-100 AHRC

System name:

Officer Appointment Files.

System location:

Commander, U.S. Army Human Resources Command, Chief, Officer Records Branch, 200 Stovall Street, Alexandria, VA 22332-0400.

Secondary locations: Army installations and commands. Official mailing addresses are published as an appendix to the Army's compilation of record systems notices.

Categories of individuals covered by the system:

Applicants for appointment in the U.S. Army or U.S. Army Reserves.

Categories of records in the system:

Individual applications for appointment as a warrant or commissioned officer, evaluation reports, supplemental information regarding qualifications, notification of acceptance/rejection and similar relevant documents and reports.

Authority for maintenance of the system:

10 U.S.C. 3013, Secretary of the Army; Army Regulation 601-100, Appointment of Commissioned and Warrant Officers in the Regular Army; and E.O. 9397 (SSN), as amended.

Purpose(s):

To determine acceptability of applicants into the Army officer ranks.

Routine uses of records maintained in the system, including categories of users and the purposes of such uses:

In addition to those disclosures generally permitted under 5 U.S.C. 552a(b) of the Privacy Act of 1974, as amended, these records contained therein may specifically be disclosed outside the DoD as a routine use pursuant to 5 U.S.C. 552a(b)(3) as follows:

The DoD Blanket Routine Uses set forth at the beginning of the Army's compilation of systems of records notices may apply to this system.

Policies and practices for storing, retrieving, accessing, retaining, and disposing of records in the system:

Storage:

Paper records in file folders stored in file cabinets on microfiche and electronic storage media.

Retrievability:

By individual's surname and Social Security Number.

Safeguards:

Records are maintained in secured areas and secured buildings accessible only to designated individuals having official need thereof in the performance of their duties.

Retention and disposal:

Inquiry and eligibility files retain and destroy after 2 years. Appointment application records destroy after 1 year. Appointment selection board records retain for 3 years then destroy. Appointment lists retain and destroy after 2 years.

System manager(s) and address:

Commander, U.S. Army Human Resources Command, Officer Records Branch, 200 Stovall Street, Alexandria, VA 22332-0400.

Notification procedure:

Individuals seeking to determine if information about themselves is contained in this record system should address written inquiries to the Army installation in which application was sent or to the Commander, U.S. Army Human Resources Command, Officer Records Branch, 200 Stovall Street, Alexandria, VA 22332-0400. Individual should provide the full name, Social Security Number, date of application, place to which sent, and any other information that will assist in locating the record.

Record access procedures:

Individuals seeking access to records about themselves contained in this record system should address written inquiries to the Army installation in which application was sent or to the Commander, U.S. Army Human Resources Command, Officer Records Branch, 200 Stovall Street, Alexandria, VA 22332-0400.

Individual should provide the full name, Social Security Number, date of application, place to which sent, and any other information that will assist in locating the record.

Contesting record procedures:

The Army's rules for accessing records, and for contesting contents and appealing initial agency determinations are contained in Army Regulation 340-21; 32 CFR part 505; or may be obtained from the system manager.

Record source categories:

From the individual; extracts from personnel records; forms, documents, and related papers originated by or received in Army offices.

Exemptions claimed for the system:

None.

* * * * *

A0601-280a AHRC

System name:

Qualitative Management Program Appeal File.

System location:

Active Duty Army and Active Army Reserve records are located at U.S. Army Enlisted Records and Evaluation Center, 8899 East 56th Street, Indianapolis, IN 46249-5301. Active National Guard Reserve records are located at the Commander, U.S. Army Human Resources Command, 1 Reserve Way, St. Louis, MO 63132-5200.

Categories of individuals covered by the system:

Active Duty Army, full time Active National Guard Reserve and Active Army Reserve enlisted members in the grades of E-6 through E-9 who have appealed a bar to reenlistment.

Categories of records in the system:

File contains name, Social Security Number, pay grade, date of rank, basic active service date, estimated termination of service, primary and secondary military occupational specialties, bar to reenlistment letter/memorandum, appeal to bar to reenlistment and associated documentation, final determination of appeal by Reenlistment Appeals Board, enlisted efficiency reports, selected data elements pertaining to service record of appellant and similar relevant documents.

Authority for maintenance of the system:

10 U.S.C. 3013, Secretary of the Army; Army Regulation 635-200, Personnel Separation/Enlisted Personnel; Army Regulation 601-280, Army Retention Program; E.O. 9397 (SSN), as amended.

Purpose(s):

Records in this system are used for the management of personnel and manpower in order to deny continued service to non-productive enlisted soldiers and retain quality enlisted soldiers in the Army and to encourage soldiers to maintain eligibility for further service. Records in this system are used for the management of personnel, year group, and manpower, in order to retain quality soldiers in the Army.

Routine uses of records maintained in the system, including categories of users and the purposes of such uses:

In addition to those disclosures generally permitted under 5 U.S.C. 552a(b) of the Privacy Act of 1974, as amended, these records contained therein may specifically be disclosed outside the DoD as a routine use pursuant to 5 U.S.C. 552a(b)(3) as follows:

The DoD Blanket Routine Uses set forth at the beginning of the Army's compilation of systems of records notices may apply to this system.

Policies and practices for storing, retrieving, accessing, retaining, and disposing of records in the system:

Storage:

Paper records in file folders and electronic storage media.

Retrievability:

By individual's name and Social Security Number.

Safeguards:

Records are protected by physical security devices, guards, and personnel clearances for individuals working with the system.

Retention and disposal:

Approved certificate to bar reenlistment and approved recommendation to withdraw bar to reenlistment are filed in permanent section of the Military Personnel Records Jacket in accordance with prescribed regulations. Bar to reenlistment certificates for which total withdrawal has been approved are removed from the Military Personnel Records Jacket and destroyed. Documents used to determine reenlistment eligibility including entries transferred from personnel records, remarks by commander, additional documentation of interviews and similar information is forwarded with Military Personnel Records Jacket in accordance with prescribed regulations, destroy on reenlistment of individual.

System manager(s) and address:

Commander, U.S. Army Enlisted Records and Evaluation Center, 8899 East 56th Street, Indianapolis, IN 46249-5301 for matters concerning Active Duty Army and Active Army Reserve Commander, U.S. Army Human Resources Command, 1 Reserve Way, St. Louis, MO 63132-5200 for matters concerning Active National Guard Reserve.

Notification procedure:

Individuals seeking to determine if information about themselves is contained in this record system should address written inquiries to the Commander, U.S. Army Enlisted Records and Evaluation Center, 8899 East 56th Street, Indianapolis, IN 46249-5301 for matters concerning Active Duty Army and Active Army Reserve; and to the Commander, U.S. Army Human Resources Command, 1 Reserve Way, St. Louis, MO 63132-5200 for matters concerning Active National Guard Reserve.

Individual should provide the full name, Social Security Number, grade, and current address.

Record access procedures:

Individuals seeking access to records about themselves contained in this record system should address written inquiries to the Commander, U.S. Army Enlisted Records and Evaluation Center, 8899 East 56th Street, Indianapolis, IN 46249-5301 for matters concerning Active Duty Army and Active Army Reserve; and to the Commander, U.S. Army Human Resources Command, 1 Reserve Way, St. Louis, MO 63132-5200 for matters concerning Active National Guard Reserve.

Individual should provide the full name, Social Security Number, grade, and current address.

Contesting record procedures:

The Army's rules for accessing records, and for contesting contents and appealing initial agency determinations are contained in Army Regulation 340-21; 32 CFR part 505; or may be obtained from the system manager.

Record source categories:

From Army records and reports; from appellant.

Exemptions claimed for the system:

None.

* * * * *

A0601-280b AHRC

System name:

Selective Reenlistment Bonus.

System location:

U.S. Army Human Resources Command, Selective Reenlistment Bonus Manager, 2461 Eisenhower Avenue, Alexandria, VA 22332-0451.

Categories of individuals covered by the system:

Enlisted soldiers in grades E-1 through E-9 who have submitted a request for a selective reenlistment bonus.

Categories of records in the system:

Name, Social Security Number, grade, Military Occupational Specialty, documentation substantiating request for accelerated payment, advisory recommendation for Army Board for Correction of Military Records consideration, and similar relevant documentation.

Authority for maintenance of the system:

10 U.S.C. 3013, Secretary of the Army; Army Regulation 601-280, Army Retention Program; and E.O. 9397 (SSN), as amended.

Purpose(s):

To determine service member's qualification for selective reenlistment bonuses.

Routine uses of records maintained in the system, including categories of users and the purposes of such uses:

In addition to those disclosures generally permitted under 5 U.S.C. 552a(b) of the Privacy Act of 1974, as amended, these records contained therein may specifically be disclosed outside the DoD as a routine use pursuant to 5 U.S.C. 552a(b)(3) as follows:

The DoD Blanket Routine Uses set forth at the beginning of the Army's compilation of systems of records notices may apply to this system.

Policies and practices for storing, retrieving, accessing, retaining, and disposing of records in the system:

Storage:

Paper records in file folders and electronic storage media.

Retrievability:

By individual's surname and fiscal year.

Safeguards:

Records are maintained in areas accessible only to authorized personnel within the performance of their duties. Records are in a secured office within a secured building.

Retention and disposal:

Records are destroyed upon reenlistment of individual.

System manager(s) and address:

Commander, U.S. Army Human Resources Command, Selective Reenlistment Bonus Manager, 2461 Eisenhower Avenue, Alexandria, VA 22331-0451.

Notification procedure:

Individuals seeking to determine if information about themselves is contained in this record system should address written inquiries to the Commander, U.S. Army Human Resources Command, Selective Reenlistment Bonus Manager, 2461 Eisenhower Avenue, Alexandria, VA 22331-0451. Individual should provide the full name, Social Security Number, and current address.

Record access procedures:

Individuals seeking access to records about themselves contained in this record system should address written inquiries to the Commander, U.S. Army Human Resources Command, Selective Reenlistment Bonus Manager, 2461 Eisenhower Avenue, Alexandria, VA 22331-0451.

Individual should provide the full name, Social Security Number, and current address.

Contesting record procedures:

The Army's rule for accessing records, and for contesting contents and appealing initial agency determinations are contained in Army Regulation 340-21; 32 CFR part 505; or may be obtained from the system manager.

Record source categories:

From the individual, personnel records, other Army records and reports.

Exemptions claimed for the system:

None.

* * * * *

A0608 AHRC

System name:

Personal Affairs Files.

System location:

Decentralized to major commands, installations, and activities. Official mailing addresses are published as an appendix to the Army's compilation of record systems notices.

Categories of individuals covered by the system: Army officers, warrant officers, and enlisted personnel on active duty.

Categories of records in the system:

Third party inquiries pertaining to such matters as dependent assistance, indebtedness, non-support, paternity claims, and marriage in overseas areas.

Authority for maintenance of the system:

10 U.S.C. 3013, Secretary of the Army.

Purpose(s):

To review and answer inquiries concerning personal affairs of service members; e.g., dependent assistance, indebtedness, non-support, paternity claims, marriage in overseas areas, and similar matters that originate from third parties.

Routine uses of records maintained in the system, including categories of users and the purposes of such uses:

In addition to those disclosures generally permitted under 5 U.S.C. 552a(b) of the Privacy Act of 1974, as amended, these records or information contained therein may specifically be disclosed outside the DoD as a routine use pursuant to 5 U.S.C. 552a(b)(3) as follows:

The DoD Blanket Routine Uses set forth at the beginning of the Army's compilation of systems of records notices may apply to this system.

Policies and practices for storing, retrieving, accessing, retaining, and disposing of records in the system:

Storage:

Paper records in file folders.

Retrievability:

By service member's surname.

Safeguards:

Records are available only to designated persons having official need therefore in the performance of their duties. Records are kept in secure office areas.

Retention and disposal:

Retained for 2 years.

System manager(s) and address:

Commander, U.S. Army Human Resources Command, ATTN: AHRC-PDO-IP, 200 Stovall Street, Alexandria, VA 22332-0474.

Notification procedure:

Individuals seeking to determine if information about themselves is contained in this record system should address written inquiries to the command/installation/activity where they believe inquiry was sent.

Individual should provide the full name, current address and telephone number, and sufficient details to permit locating the record.

Record access procedures:

Individuals seeking access to records about themselves contained in this record system should address written inquiries to the command/installation/activity where they believe inquiry was sent.

Individual should provide the full name, current address and telephone number, and sufficient details to permit locating the record.

Contesting record procedures:

The Army's rules for accessing records, and for contesting contents and appealing initial agency determinations are contained in Army Regulation 340-21; 32 CFR part 505; or may be obtained from the system manager.

Record source categories:

From third parties, official Army records.

Exemptions claimed for the system:

None.

* * * * *

A0635-40 AHRC

System name:

Temporary Disability Retirement Master List (TDRL).

System location:

Primary location: Chief, U.S. Army Physical Disability Agency, Walter Reed Army Medical Center, 6900 Georgia Avenue NW., Building 7, Washington, DC 20307-5001.

Secondary location: Defense Finance and Accounting Service, 8899 East 56th Street, Indianapolis, IN 46249-5000.

Categories of individuals covered by the system:

Army personnel who are on temporary disability retirement.

Categories of records in the system:

File contains, Social Security Number, name, address, Department of Army special order number, percentage of disability, doctor code, re-examination date, date placed on TDRL, hospital code, travel code, Army component, pay termination code, requirement for board code, record control number, hospital name and address.

Authority for maintenance of the system:

10 U.S.C. 1376, Temporary Disability Retired Lists; 10 U.S.C. 3013, Secretary of the Army; Army Regulation 635-40, Physical Evaluation for Retention, Retirement of Separation; and E.O. 9397 (SSN), as amended.

Purpose(s):

To coordinate with medical treatment facilities for scheduling medical examinations; to issue travel orders for individual to report to medical treatment facility for annual medical examination; to determine individual's status by the end of the fifth year of being on the TDRL, i.e., whether individual is to be permanently retired for disability, or returned to duty.

Routine uses of records maintained in the system, including categories of users and the purposes of such uses:

In addition to those disclosures generally permitted under 5 U.S.C. 552a(b) of the Privacy Act of 1974, as amended, these records contained therein may specifically be disclosed outside the DoD as a routine use pursuant to 5 U.S.C. 552a(b)(3) as follows:

To the Department of Veterans Affairs to facilitate claims for veteran disability benefits.

The DoD Blanket Routine Uses set forth at the beginning of the Army's compilation of systems of records notices may apply to this system.

Policies and practices for storing, retrieving, accessing, retaining, and disposing of records in the system:

Storage:

Paper records in medical treatment facilities; magnetic tape, disc.

Retrievability:

By name, Social Security Number and date.

Safeguards:

Access to all records is restricted to individuals having need therefore in the performance of duties. Automated media are further protected by authorized password for system, controlled access to operation rooms and controlled output distribution. Records are retained in secure offices within secure buildings.

Retention and disposal:

Information is maintained for 3 years after the member is found physically fit, separates or retires.

System manager(s) and address:

Chief, U.S. Army Physical Disability Agency, Walter Reed Army Medical Center, 6900 Georgia Avenue NW., Building 7, Washington, DC 20307-5001.

Notification procedure:

Individuals seeking to determine if information about themselves is contained in this record system should address written inquiries to the Chief, U.S. Army Physical Disability Agency, Walter Reed Army Medical Center, 6900 Georgia Avenue NW., Building 7, Washington, DC 20307-5001.

Individual should provide the full name, Social Security Number, current address and telephone number, and signature.

Inquiries are restricted to issues relating to the Temporary Disability Retirement List only; issues of pay must be made at the Defense Finance and Accounting Service, 8899 East 56th Street, Indianapolis, IN 46249-5000.

Record access procedures:

Individuals seeking access to records about themselves contained in this record system should address written inquiries to the Chief, U.S. Army Physical Disability Agency, Walter Reed Army Medical Center, 6900 Georgia Avenue NW., Building 7, Washington, DC 20307-5001.

Individual should provide the full name, Social Security Number, current address and telephone number, and signature.

Inquiries are restricted to issues relating to the Temporary Disability Retirement List only; issues of pay must be made at the Defense Finance and Accounting Service, 8899 East 56th Street, Indianapolis, IN 46249-5000.

Contesting record procedures:

The Army's rules for accessing records, and for contesting contents and appealing initial agency determinations are contained in Army Regulation 340-21; 32 CFR part 505; or may be obtained from the system manager.

Record source categories:

From the individual, medical treatment facilities, and other Army records and reports.

Exemptions claimed for the system:

None.

* * * * *

A0635-200 AHRC

System name:

Separations: Administrative Board Proceedings.

System location:

U.S. Army Human Resources Command, ATTN: AHRC-PDT-P, 200 Stovall Street, Alexandria, VA 22332-0478. Segments exist at Major Army Commands and subordinate commands, field operating agencies, and activities exercising general courts-martial jurisdiction. Official mailing addresses are published as an appendix to the Army's compilation of record systems notices.

Categories of individuals covered by the system:

Military members on whom allegations of defective enlistment/agreement/fraudulent entry/alcohol or other drug abuse rehabilitation failure/unsatisfactory performance/misconduct/homosexuality under the provisions of Chapters 7, 9, 13, 14, or 15 of Army Regulation 635-200, Enlisted Personnel, result in administrative board proceedings.

Categories of records in the system:

Notice to service member of allegations on which proposed separation from the Army is based; supporting documentation; DA Form 2627, Records of Proceedings under Article 15, UCMJ; DD Form 493, Extract of Military Records of Previous Convictions; medical evaluations; military occupational specialty evaluation and aptitude scores; member's statements, testimony, witness statements, affidavits, rights waiver record; hearing transcript; board findings and recommendations for separation or retention; final action.

Authority for maintenance of the system:

10 U.S.C. 1169, Regular enlisted members; limitations on discharge, 10 U.S.C. 3013, Secretary of the Army; 42 U.S.C. 10606 et seq.; DoD Directive 1030.1, Victim and Witness Assistance; and E.O. 9397 (SSN), as amended.

Purpose(s):

Information is used by processing activities and the approval authority to determine if the member meets the requirements for retention or separation.

Routine uses of records maintained in the system including categories of users and the purposes of such uses:

In addition to those disclosures generally permitted under 5 U.S.C. 552a(b) of the Privacy Act of 1974, as amended, these records contained therein may specifically be disclosed outside the DoD as a routine use pursuant to 5 U.S.C. 552a(b)(3) as follows:

To victims and witnesses of a crime for purposes of providing information, consistent with the requirements of the Victim and Witness Assistance Program, regarding the investigation and disposition of an offense.

The DoD Blanket Routine Uses set forth at the beginning of the Army's compilation of systems of records notices may apply to this system.

Policies and practices for storing, retrieving, accessing, retaining, and disposing of records in the system:

Storage:

Paper records in file folders and electronic storage media.

Retrievability:

By individual's surname or Social Security Number.

Safeguards:

Records are accessed only by designated persons having official need; in locked cabinets, in locked rooms within secure buildings.

Retention and disposal:

The original of board proceedings becomes a permanent part of the member's Official Military Personnel Record. When separation is ordered, a copy is sent to member's commander where it is retained for two years before being destroyed. When separation is not ordered, board proceedings are filed at the headquarters of the separation authority for two years, then destroyed. A copy of board proceedings in cases where the final authority is the U.S. Army Human Resources Command, pursuant to Army Regulation 635-200, is retained by that headquarters (AHRC-PDT) for one year following decision.

System manager(s) and address:

Commander, U.S. Army Human Resources Command, ATTN: AHRC-PDT-P, 200 Stovall Street, Alexandria, VA 22332-0478.

Notification procedure:

Individuals seeking to determine if information about themselves is contained in this record system should address written inquiries to the commander of the installation where administrative board convened or to the Commander, U.S. Army Human Resources Command, ATTN: AHRC-PDT-P, 200 Stovall Street, Alexandria, VA 22332-0478.

Individual should provide the full name, details concerning the proposed or actual separation action to include location and date, and signature.

Record access procedures:

If individual has been separated from the Army, address written inquiries to the National Personnel Records Center, General Services Administration, 9700 Page Avenue, St. Louis, MO 63132-5200: proceedings will be part of the Official Military Personnel Record.

If member is on active duty, address written inquiries to the commander of the installation where administrative board convened.

Individual should provide the full name, details concerning the proposed or actual separation action to include location and date, and signature.

Contesting record procedures:

The Army's rules for accessing records, and for contesting contents and appealing initial agency determinations are contained in Army Regulation 340-21; 32 CFR part 505; or may be obtained from the system manager.

Record source categories:

From the individual; individual's commander; Army personnel, medical, and/or investigative records; witnesses; the Administrative Separation Board; federal, state, local, and/or foreign law enforcement agencies.

Exemptions claimed for the system:

None.

[FR Doc. 2013-06964 Filed 3-26-13; 8:45 am]

BILLING CODE 5001-06-P